DEPARTMENT OF TRANSPORTATION

Federal Aviation Administration

Notice of Intent To Rule on Request to Release Airport Land at Hilo and Kahului Airports, Hawaii

AGENCY: Federal Aviation Administration (FAA), DOT.

ACTION: Notice of request to release airport land.

SUMMARY: The FAA proposes to rule and invites public comment on the release of airport land needed to comply with the Hawaii Department of Transportation's (HDOT) obligations under the Tri-Party Agreement of 1984. The purpose of the Tri-Party Agreement was to extinguish lawsuits pending in state court that contested HDOT's use of certain lands for non-airport purposes. The Agreement called for HDOT to exchange land and money to compensate for subject land. The FAA objected to the transfer of land needed for airport or wildlife mitigation purposes. To resolve this matter, HDOT has proposed that other non-aeronautical use land be substituted for those parcels identified in the Tri-Party Agreement.

DATES: Comments must be received on or before December 13, 2002.

ADDRESSES: Comments on this application may be mailed or delivered in triplicate to the FAA at the following address: Mr. Ronnie V. Simpson, Manager, FAA Honolulu Airports District Office, 300 Ala Moana Blvd., Room 7-128, Honolulu, HI 96813.

FOR FURTHER INFORMATION CONTACT: Mr. Ronnie V. Simpson, Manager, Honolulu Airports District Office, 300 Ala Moana Blvd., Room 7-128, Honolulu, HI 96813, Telephone: (808) 541-1232. The request to release airport property may be reviewed in person at this same location.

SUPPLEMENTARY INFORMATION: On April 5, 2000, new authorizing legislation became effective. That bill, the Wendell H. Ford Aviation Investment and Reform Act for the 21st Century (AIR 21), Pub. L. 10-181 (Apr. 5, 2000; 114 Stat. 61), requires that a 30-day public notice must be provided before the Secretary may waive any condition imposed on an interest in surplus property.

The following is a brief overview of the request:

The state agencies have agreed to substitute new airport parcels for those identified in the Tri-Party Agreement. The following is a description of the parcels proposed for release:

(a) HDOT will convey 22.419 acres at Kahului, subject to an avigation easement, to Department of Land and Natural Resources (DLNR). The land is presently occupied by state agencies that are using it for non-aeronautical purposes.

(b) At Hilo, HDOT and DLNR will each swap 1.082 acres. Presently, HDOT airport land is occupied by a state agency and the DLNR land is occupied by the FAA/National Weather Service Station. By swapping land of equal size and value, HDOT will acquire 1.082 acres of aviation-use land and DLNR will acquire 1.082 acres, subject to an avigation easement, of non-aeronautical use land.

(c) HDOT will convey 41.067 acres, subject to avigation easement, at Hilo to DLNR. The land consists of a quarry and the former Hawaii National Guard site, that cannot be used for aeronautical purposes since it is isolated from the airport by a major roadway. It has never been used and will not be used for future aeronautical purposes.

(d) HDOT will convey another 16.941 acres, subject to avigation easement, of the quarry site at Hilo to DLNR. The state will pay HDOT fair market value of $2,140,000, none of which is airport revenue, for the additional land. The additional 16.941 acres, along with the 41.067 acres above, represent the entire quarry and Hawaii National Guard site that has never been used for aeronautical purposes and which HDOT does not need for airport purposes.

Issued in Hawthorne, California, on October 30, 2002.
Herman C. Bliss,
Manager, Airports Division, Western-Pacific Region.

[FR Doc. 02-28828 Filed 11-12-02; 8:45 am]

BILLING CODE 4910-13-Ma